DEPARTMENT OF DEFENSE

Department of the Army, Corps of Engineers

Intent To Prepare a Draft Environmental Impact Statement for the Proposed SunCreek Project, in Sacramento County, CA

AGENCY: Department of the Army, U.S. Army Corps of Engineers, DoD.

ACTION: Notice of intent.

SUMMARY: The U.S. Army Corps of Engineers (Corps), Sacramento District, will prepare a Draft Environmental Impact Statement (DEIS) for Corps authorization actions on the proposed SunCreek Specific Plan project, which as proposed would result in the permanent loss of approximately 18.25 acres of waters of the United States, including vernal pools and other wetlands. The overall project purpose is to construct large scale mixed-use development in Sacramento County.

DATES: A public scoping meeting will be held on July 26, 2006 from 6:30 p.m. to 8 p.m. The projected date for public release of the DEIS is Summer 2007.

ADDRESSES: The public scoping meeting will be held at Rancho Cordova City Hall, 2729 Prospect Park Drive, Rancho Cordova, CA 95670. Written comments may be mailed to Mr. William Ness at 1325 J Street, Room 1480, Sacramento CA 95814-2922. All comments must be received by August 26, 2006.

FOR FURTHER INFORMATION CONTACT: Questions about the proposed action and DEIS can be answered by Mr. William Ness, telephone (916) 557-5268, or e-mail at william.w.ness@usace.army.mil. Please refer to identification number 200500888.

SUPPLEMENTARY INFORMATION: The applicants have applied for a Department of the Army permit under Section 404 of the Clean Water Act to construct a mixed-use development project. The proposed project would be developed on approximately 1,253 acres south of Douglas Road, north of Jackson Highway (State Route 16), west of Grant Line Road, and east of Sunrise Boulevard. The proposed project consists of approximately 5,600 residential homes, 20 acres of retail/commercial offices, 6 parks, 4 schools, and wetland preserve and other open space areas. The proposed project site is generally undeveloped and has a history of occasional use for dry land farming and grazing on spring grasses.

A total of 36.915 acres of waters of the United States have been identified on the project site, including 17.505 acres of vernal pools, 9.156 acres of non-vernal pool wetland, 2.056 acres of ponds, and 8.198 acres of drainage/stream channels. The applicants have applied to fill approximately 18.252 acres of these waters to construct the project. A 216.5-acre wetland preserve would be created in the central potion of the project, generally following the Laguna Creek drainage. The preserve would contain 18.663 acres of waters of the United States.

The proposed project may affect federally-listed threatened or endangered species or their critical habitat, including vernal pool fairy shrimp, vernal pool tadpole shrimp, Sacramento orcutt grass, and slender orcutt grass. Once a biological assessment is completed the Corps will initiate Section 7 consultation with the U.S. Fish and Wildlife Service. The Corps will also consult with the State Historic Preservation Office under Section 106 of the National Historic Preservation Act for properties listed or potentially eligible for listing on the National Register of Historic Places, as appropriate.

A number of on-site and off-site project alternatives, including the no-action alternative, will be evaluated in the DEIS in accordance with NEPA and the Section 404(b)(1) guidelines.

Potentially significant issues to be analyzed in depth in the DEIS include loss of waters of the United States (including wetlands), cultural resources, biological resources, air quality, hydrology and water quality, noise, traffic, aesthetics, utilities and service systems, and socio-economic effects.

The Environmental Impact Statement will be prepared as a joint document with the City of Rancho Cordova. The City is the local agency responsible for preparing an Environmental Impact Report in compliance with the California Environmental Quality Act (CEQA).

The above determinations are based on information provided by the applicant and the Corp's Preliminary review. The Corps is soliciting verbal and written comments from the public, Federal, State, local agencies and officials, Indian tribes, and other interested parties in order to consider and evaluate the impacts of this proposed activity. The Corps' public involvement program includes several opportunities to provide oral and written comments. Affected Federal, State, and local agencies, Indian tribes, and other interested private organizations and the general public are invited to participate.

Dated: June 29, 2006.
Ronald N. Light,
Colonel, Corps of Engineers, District Engineer.

[FR Doc. 06-6193 Filed 7-12-06; 8:45 am]

BILLING CODE 3710-EH-M